DEPARTMENT OF ENERGY

Federal Energy Regulatory Commission

[Project Nos. 2183-072]

Grand River Dam Authority; Notice of Availability of Environmental Assessment

In accordance with the National Environmental Policy Act of 1969 and the Federal Energy Regulatory Commission's (Commission) regulations, 18 CFR part 380, the Office of Energy Projects has reviewed a shoreline management plan submitted by Grand River Dam Authority (GRDA or licensee) pursuant to article 406 of the project license (FERC No. 2183). An environmental assessment (EA) has been prepared as part of staff's review of the proposal. The project is located on the Grand River in Mayes County, Oklahoma.

The proposed shoreline management plan provides for consistent land management policies and permitting decisions on project lands in the short term and over the life of the project license. The document serves to guide GRDA in protecting and enhancing the project's environmental, recreational, and other values. It also provides the background to support permitting decisions and other activities undertaken by GRDA within the project boundary. The EA contains Commission staff's analysis of the probable environmental impacts of implementation of the proposed shoreline management plan, and concludes that approval of the proposed plan would not constitute a major federal action significantly affecting the quality of the human environment.

The EA is attached to a Commission order titled “Order Modifying and Approving Shoreline Management Plan Under Article 406,” which was issued April 30, 2014, and is available for review and reproduction at the Commission's Public Reference Room, located at 888 First Street NE., Room 2A, Washington, DC 20426. The EA may also be viewed on the Commission's Web site at http://www.ferc.gov using the “eLibrary” link. Enter the docket number (P-2183) in the docket number field to access the document. For assistance, contact FERC Online Support at FERCOnlineSupport@ferc.gov or toll-free at 1-866-208-3676, or for TTY, (202) 502-8659.

Dated: April 30, 2014.
Kimberly D. Bose,
Secretary.

[FR Doc. 2014-10424 Filed 5-6-14; 8:45 am]

BILLING CODE 6717-01-P